DEPARTMENT OF THE INTERIOR

Bureau of Land Management

[AZ-910-0777-XP-241A]

State of Arizona Resource Advisory Council Meeting

AGENCY: Bureau of Land Management, Interior.

ACTION: Arizona Resource Advisory Council Meeting notice.

SUMMARY: This notice announces a meeting of the Arizona Resource Advisory Council (RAC).

The business meeting will be held on March 8, 2007, in Phoenix, Arizona, at the Bureau of Land Management (BLM) Arizona State Office located at One North Central Avenue, 8th floor. It will begin at 8 a.m. and conclude at 4:30 p.m. The morning agenda items to be covered include: Review of the December 7, 2006, Meeting Minutes, BLM State Director's Update on Statewide Issues; Presentations on the Rails to Trails Project and the Arizona Strip Cooperative Rangeland Monitoring Program; RAC Questions on written reports from BLM Field Managers; Field Office Rangeland Resource Team Proposals; and, Reports by the Standards and Guidelines, Recreation, Off-Highway Vehicle Use, Land Use Planning and Tenure, and Wild Horse and Burro Working Groups. A public comment period will be provided at 11:30 a.m. on March 8, 2007, for any interested publics who wish to address the Council on BLM programs and business. Under the Federal Recreation Enhancement Act, the BLM Arizona RAC has been designated the Recreation Resource Advisory Council (RRAC), and has the authority to review all BLM and Forest Service (FS) recreation fee proposals in Arizona. The afternoon meeting agenda on March 8 will be devoted to presenting the Recreation Enhancement Act (REA) Working Group Report, and reviewing one FS, and three BLM fee proposals in Arizona:

(1) Sycamore Cabin (Prescott National Forest) Less than a 20-minute drive from Phoenix, Flagstaff and Prescott, this historic Prescott National Ranger house is currently available for nightly rental. The fee proposal will consider an increase from $100 to $125 per night (excluding $9 reservation fee). An additional $25 per night will be charged if a Recreational Vehicle is brought to the site.

(2) Coyote Buttes Special Management Area (BLM Arizona Strip District) Just south of the Utah-Arizona border, with access located midway between Page, Arizona and Kanab, Utah on U.S. Highway 89. Visitors may hike in scenic Coyote Buttes by obtaining an online permit on a first-come, first-served basis. The existing permit fee is $5 per person, per day. The fee proposal will consider the inclusion of an online lottery for hiking permits and a $5 per application lottery fee.

(3) Amenity Fee Site Proposals, Annual Recreation Pass, and Long-Term Visitor Areas (BLM Yuma Field Office). Changes to the recreation fee schedules are proposed, including an increase from $140 to $180 for a 7-month permit, and from $30 to $40 for a 14-day permit at the Field Office's two Long-Term Visitor Areas. In addition, BLM also maintains seven other developed recreation fee sites, six of which are located on the lower Colorado River. The annual pass honored at all seven of these recreation sites is proposed to increase from $50 to $75. At the six Colorado River recreation sites, BLM is proposing to establish a $10 day-use fee and a $15 overnight fee. At the seventh site, the Ehrenberg Sandbowl Off-Highway Vehicle Area, BLM is proposing to establish a $5 day-use fee and a $10 overnight fee.

(4) Amenity Fee Site Proposals and Annual Recreation Pass (BLM Lake Havasu Field Office). The Annual Recreation Pass fee is proposed to increase from $50 to $100 per year, the first increase since the program began in 2002. The Annual Pass is used in lieu of paying daily permit fees (typically $4 to $20 each) for an unlimited number of overnight and day-use visits at Lake Havasu shoreline campsites and Parker Strip recreation sites. An increase in Daily Permit Fees is also proposed for the Parker Strip, from $3 to $4 to $5 for day use, and from $4 to $10 to $5 to $10 for overnight. In addition, fees proposed for the Empire Landing Campground (upon its reopening in 2008) would be $25 to $30 per day.

Following the FS and BLM proposals, the RRAC will open the meeting to public comments on the fee proposals. After completing their RRAC business, the BLM RAC will reconvene to provide recommendations to the RAC Designated Federal Official on the fee proposals and discuss future RAC meetings and locations.

DATES: Effective Date: February 21, 2007.

FOR FURTHER INFORMATION CONTACT: Deborah Stevens, Bureau of Land Management, Arizona State Office, One North Central Avenue, Suite 800, Phoenix, Arizona 85004-4427; 602-417-9215.

Elaine Y. Zielinski,
State Director.

[FR Doc. 07-818 Filed 2-23-07; 8:45 am]

BILLING CODE 4310-32-M